DEPARTMENT OF ENERGY

Federal Energy Regulatory Commission

[Docket No. IN15-4-000]

Maxim Power Corporation, Maxim Power (USA), Inc.; Maxim Power (USA) Holding Company Inc.; Pawtucket Power Holding Co., LLC; Pittsfield Generating Company, LP; Kyle Mitton; Notice of Designation of Commission Staff as Non-Decisional

With respect to an order issued by the Commission on February 2, 2015 in the above-captioned docket, with the exceptions noted below, the staff of the Office of Enforcement are designated as non-decisional in deliberations by the Commission in this docket. Accordingly, pursuant to 18 CFR 385.2202 (2014), they will not serve as advisors to the Commission or take part in the Commission's review of any offer of settlement. Likewise, as non-decisional staff, pursuant to 18 CFR 385.2201 (2014), they are prohibited from communicating with advisory staff concerning any deliberations in this docket.

Exceptions to this designation as non-decisional are:

Larry Gasteiger

Sean Collins

Gabriel S. Sterling

Nicole Brisker

Emily Scruggs

Eric Ciccoretti

Jeremy Larrieu

Christopher Onisick

Dated: February 2, 2015.
Kimberly D. Bose,
Secretary.

[FR Doc. 2015-02430 Filed 2-6-15; 8:45 am]

BILLING CODE 6717-01-P